DEPARTMENT OF HEALTH AND HUMAN SERVICES

Health Resources and Services Administration

Meetings of the Advisory Committee on Training and Primary Care Medicine and Dentistry (ACTPCMD)

AGENCY: Health Resources and Services Administration (HRSA), Department of Health and Human Services.

ACTION: Notice.

SUMMARY: In accordance with the Federal Advisory Committee Act, this notice announces that the Advisory Committee on Training in Primary Care Medicine and Dentistry (ACTPCMD or Committee) will hold public meetings for the 2025 calendar year (CY). Information about ACTPCMD, agendas, and materials for these meetings can be found on the ACTPCMD website at: https://www.hrsa.gov/advisory-committees/primarycare-dentist.

DATES: ACTPCMD meetings will be held on

• March 27, 2025, 8 a.m.-5 p.m. Eastern Time (ET) and March 28, 2025, 8 a.m.-2 p.m. ET

• August 8, 2025, 10 a.m.-5 p.m. ET

ADDRESSES: Meetings will be held in-person, by teleconference, and/or on a video conference platform. In-person meetings will be held at 5600 Fishers Lane, Rockville, Maryland, 20857. For updates on how the meetings will be held, instructions for joining the meeting, or any other updates, visit the ACTPCMD website 30 business days before the date of the meeting, at: https://www.hrsa.gov/advisory-committees/primarycare-dentist/meetings.

FOR FURTHER INFORMATION CONTACT: Shane Rogers, Designated Federal Officer, Division of Medicine and Dentistry, Bureau of Health Workforce, HRSA, 5600 Fishers Lane, Room 15N102, Rockville, Maryland, 20857; 301-443-5260; or SRogers@hrsa.gov.

SUPPLEMENTARY INFORMATION: ACTPCMD provides advice and recommendations on policy and program development and other matters of significance to the Secretary of of Health and Human Services (Secretary) concerning the medicine and dentistry activities authorized under section 747 of the Public Health Service (PHS) Act, as it existed upon the enactment of Section 749 of the PHS Act in 1998, and is responsible for preparing and submitting an annual report to the Secretary and Congress describing the activities of the Committee, including findings and recommendations made by the Committee concerning activities authorized under section 747 of the PHS Act, as it existed upon the enactment of Section 749 of the PHS Act in 1998. In addition, ACTPCMD develops, publishes, and implements performance measures and guidelines for longitudinal evaluations for programs authorized under Part C of Title VII of the PHS Act, as well as recommends appropriation levels for programs under this part.

Since priorities dictate meeting times, be advised that start times, end times, and agenda items are subject to change. For CY 2025 meetings, agenda items may include, but are not limited to: pathways, recruitment, and retention of American Indian health providers; health workforce diversity; community colleges; faculty shortages; and dental accreditation requirements; as well as discussions pertaining to policy, program development, and other matters of significance concerning medicine and dentistry activities authorized under the relevant sections of the PHS Act. Refer to the ACTPCMD website listed above for all current and updated information concerning the CY 2025 ACTPCMD meetings, including agendas and meeting materials that will be posted 30 calendar days before the meeting.

Members of the public will have the opportunity to provide comments. Public participants may submit written statements in advance of the scheduled meeting(s). Oral comments will be honored in the order they are requested and may be limited as time allows. Requests to submit a written statement or make oral comments to ACTPCMD should be sent to Shane Rogers using the contact information above at least 5 business days before the meeting date(s).

Individuals who need special assistance or another reasonable accommodation should notify Shane Rogers using the contact information listed above at least 10 business days before the meeting(s) they wish to attend. Since all in-person meetings will occur in a federal government building at 5600 Fishers Lane, Rockville, MD, 20857, attendees must go through a security check to enter the building. Members of the public must notify the Designated Federal Officer of their intent to attend the in-person meeting 10 business days before the meeting. Non-U.S. citizen attendees must notify the Designated Federal Officer of their planned attendance at least 20 business days prior to the meeting to facilitate their entry into the building. All attendees are required to present government-issued identification prior to entry.

Maria G. Button,
Director, Executive Secretariat.

[FR Doc. 2024-30073 Filed 12-18-24; 8:45 am]

BILLING CODE 4165-15-P